DEPARTMENT OF THE INTERIOR

National Park Service

[NPS-WASO-NRNHL-16747; PPWOCRADI0, PCU00RP14.R50000]

National Register of Historic Places; Notification of Pending Nominations and Related Actions

Nominations for the following properties being considered for listing or related actions in the National Register were received by the National Park Service before September 13, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by October 29, 2014. Before including your address, phone number, email address, or other personal identifying information in your comment, you should be aware that your entire comment—including your personal identifying information—may be made publicly available at any time. While you can ask us in your comment to withhold your personal identifying information from public review, we cannot guarantee that we will be able to do so.

Dated: September 23, 2014.
J. Paul Loether,
Chief, National Register of Historic Places/National Historic Landmarks Program.

MISSOURI

Crawford County

Cuba City Jail, (Cuba, Missouri MPS), Jct. of Prairie St. & 300 blk. of S. Main St., Cuba, 14000880

Cuba Lodge No. 312 A.F. and A.M., (Cuba, Missouri MPS), 201 N. Smith St., Cuba, 14000881

Hamilton, George B., House, (Cuba, Missouri MPS), 401 E. Washington St., Cuba, 14000882

Hotel Cuba, (Cuba, Missouri MPS), 600 E. Main St., Cuba, 14000883

Munro, John Manson, House, (Cuba, Missouri MPS), 305 W. Washington Ave., Cuba, 14000884

St. Charles County

Midtown Neighborhood Historic District, Roughly bounded by Clark, Madison, Jefferson, Kingshighway, 2nd & 3rd Sts., St. Charles, 14000885

NORTH CAROLINA

Guilford County

United States Post Office and Court House, 324 W. Market St., Greensboro, 14000886

WISCONSIN

Ozaukee County

Kendall Cabinet Shop, W4128 Mill St., Fredonia, 14000887

[FR Doc. 2014-24294 Filed 10-10-14; 8:45 am]

BILLING CODE 4312-51-P